DEPARTMENT OF ENERGY

Federal Energy Regulatory Commission

[Docket No. EL02-113-000]

El Paso Electric Company, Enron Power Marketing, Inc., Enron Capital and Trade Resources Corporation; Notice Establishing Comment Date

November 18, 2002.

On August 13, 2002, the Commission issued an order initiating investigation, and establishing hearing procedures and refund effective date (Order) in the above-docketed proceeding. By this notice, the date for the filing of motions to intervene, comments, and protests is November 29, 2002.

Linwood A. Watson, Jr.,
Deputy Secretary.

[FR Doc. 02-29830 Filed 11-22-02; 8:45 am]

BILLING CODE 6717-01-P